FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 11, 2012.

A. Federal Reserve Bank of Richmond (Adam M. Drimer, Assistant Vice President) 701 East Byrd Street, Richmond, Virginia 23261-4528:

1. Blaine Scott White, Castlewood, Virginia, individually; and Blaine Scott White Trust (trustee, Blaine Scott White), Blaine Scott White II, Irrevocable Trust (trustee, Blaine Scott White), and Brenda D. White, all of Castlewood, Virginia; Tiffany White, Evergreen, Colorado; James F. White, Jr., and Patricia Jolene White, both of Abingdon, Virginia; Bonny W. Gable of Bristol, Virginia; along with other family members as a group acting in concert to acquire voting shares of New Peoples Bankshares, Inc., and thereby indirectly acquire voting shares of New Peoples Bank, Inc., both in Honaker, Virginia.

2. Harold Lynn Keene, individually, and Harold Lynn Keene and Arbutus Keene, all of Lebanon, Virginia, as a group acting in concert to acquire voting shares of New Peoples Bankshares, Inc., and thereby indirectly acquire voting shares of New Peoples Bank, Inc., both in Honaker, Virginia.

B. Federal Reserve Bank of Chicago (Colette A. Fried, Assistant Vice President) 230 South LaSalle Street, Chicago, Illinois 60690-1414:

1. Jeffrey D. Snyder, individually and acting in concert with Rhonda R. Snyder, both of Baileyville, Illinois; to acquire control of High Point Financial Services, Inc., and thereby indirectly acquire control Forreston State Bank, both in Forreston, Illinois, and Kent Bank, Kent, Illinois.

C. Federal Reserve Bank of St. Louis (Glenda Wilson, Community Affairs Officer) P.O. Box 442, St. Louis, Missouri 63166-2034:

1. Barbara K. Ferry, Nevada, Missouri; to acquire voting shares of Mid-Missouri Bancshares, Inc., and thereby indirectly acquire voting shares of Mid-Missouri Bank, both in Springfield, Missouri.

Board of Governors of the Federal Reserve System, August 22, 2012.
Robert deV. Frierson,
Secretary of the Board.

[FR Doc. 2012-21120 Filed 8-27-12; 8:45 am]

BILLING CODE 6210-01-P